FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[December 1, 2014 thru December 31, 2014]
12/01/2014
20150149 | G | Pilot Corporation; Clifton L. Thomas; Pilot Corporation.
20150159 | G | Scott Ferguson; CDK Global, Inc.; Scott Ferguson.
12/02/2014
20140759 | Y | Eastman Chemical Company; 2010 Acquisition Vehicle, LLC; Eastman Chemical Company.
20150198 | G | IHS Inc.; Electra Private Equity PLC; IHS Inc.
20150203 | G | Pershing Square Holdings, Ltd.; Zoetis, Inc.; Pershing Square Holdings, Ltd.
20150204 | G | Pershing Square, L.P.; Zoetis Inc.; Pershing Square, L.P.
20150205 | Y | Pershing Square International, Ltd.; Zoetis Inc.; Pershing Square International, Ltd.
20150213 | G | Mobile Mini, Inc.; Odyssey Investment Partners Fund III, LP; Mobile Mini, Inc.
20150218 | G | Birch Partners, LP; Engility Holdings, Inc.; Birch Partners, LP.
20150224 | G | Jose Luis Cutrale; Chiquita Brands International, Inc.; Jose Luis Cutrale.
20150225 | G | Joseph Safra; Chiquita Brands International, Inc.; Joseph Safra.
20150229 | G | Rajiv Batra; Palo Alto Networks, Inc.; Rajiv Batra.
20150232 | G | HoldCo, LLC; Thoma Cressey Fund VIII, L.P.; HoldCo, LLC.
20150243 | G | James Ratcliffe: Carlyle Partners IV, L.P.; James Ratcliffe.
20150248 | G | New Media Investment Group Inc.; SCP Halifax Media LLC; New Media Investment Group Inc.
12/03/2014
20150163 | G | Tenet Healthcare Corporation; Ascension Health Alliance; Tenet Healthcare Corporation.
12/04/2014
20141001 | G | Alliant Techsystems Inc.; Orbital Sciences Corporation; Alliant Techsystems Inc.
12/05/2014
20130836 | G | Nexstar Broadcasting Group, Inc.; Silver Point Capital Fund, L.P.; Nexstar Broadcasting Group, Inc.
20150169 | G | Sins Partners II, L.P.; Digital River, Inc.; Sins Partners II, L.P.
20150191 | G | Invesco Ltd.; Deutsche Bank AG; lnvesco Ltd.
20150219 | G | Vonage Holdings Corporation; William H. Gates III; Vonage Holdings Corporation.
20150241 | G | Warburg Pincus Private Equity XI, L.P.; Avalara, Inc.; Warburg Pincus Private Equity XI, L.P.
20150242 | G | Catterton Partners VII, L.P.; Mr. Dario Gianandrea Ferrari; Catterton Partners VII, L.P.
20150250 | G | Koch Industries, Inc.; Oplink Communications, Inc.; Koch Industries, Inc.
20150260 | G | Delos Investment Fund, L.P.; FCA Packaging Investments, LLC; Delos Investment Fund, L.P.
20150261 | G | Trident VI, L.P.; Oasis Outsourcing Holdings, LLC; Trident VI, L.P.
20150263 | G | HealthSouth Corporation; Thoma Cressey Fund VIII, L.P., HealthSouth Corporation.
20150265 | G | White Deer Energy L.P. II; Natural Gas Partners IX, L.P.; White Deer Energy L.P. II.
12/09/2014
20150228 | G | Ship Investor & Cy S.C.A.; SecureNet. LLC; Ship Investor & Cy S.C.A.
20150235 | G | Abbott Laboratories; Topera, Inc.; Abbott Laboratories.
20150259 | G | Yahoo! Inc.; BrightRoll, Inc.; Yahoo! Inc.
20150266 | G | Golden Gate Capital Opportunity Fund, L.P.; The Dow Chemical Company; Golden Gate Capital Opportunity Fund, L.P.
20150269 | G | Madison Dearborn Capital Partners VI-B, L.P.; Kaufman, Hall & Associates, Inc.; Madison Dearborn Capital Partners VI-B, L.P.
20150277 | G | Apax VIII-B L.P.; Exact Holding N.V.; Apax VIII-B L.P.
20150278 | G | Berkshire Hathaway Inc.; Charter Brokerage Holdings Corp.; Berkshire Hathaway Inc.
20150279 | G | GSO Capital Solutions Fund II AIV-2 LP; Apache Corporation; GSO Capital Solutions Fund II AIV-2 LP.
20150280 | G | FS Equity Partners VII, L.P.; RFE Investment Partners VII, L.P.; FS Equity Partners VII, L.P.
20150283 | G | Mercury Pharmaceuticals Holdings Inc.; UCB S.A.; Mercury Pharmaceuticals Holdings Inc.
20150284 | G | Smith & Wesson Holding Corporation; Clearview Capital Fund II L.P.; Smith & Wesson Holding Corporation.
20150291 | G | Douglas Dynamics, Inc.; Lynn E. Gorguze; Douglas Dynamics, Inc.
20150292 | G | LG DT Holdings LP; Dealer Tire Holdings, LLC; LG DT Holdings LP.
20150295 | G | Enbridge Inc.; EON SE; Enbridge Inc.
20150297 | G | John L. and Susan M. Ocampo; BinOptics Corporation; John L. and Susan M. Ocampo.
20150300 | G | Newell Rubbermaid Inc.; Riverside Capital Appreciation Fund V, L.P.; Newell Rubbermaid Inc.
20150301 | G | Industrial Growth Partners IV, L.P.; BBH Capital Partners III, L.P.; Industrial Growth Partners IV, L.P.
20150319 | G | The Home Depot, Inc.; HD Supply Holdings, Inc.; The Home Depot, Inc.
20150324 | G | Nexstar Broadcasting Group, Inc.; Landmark Media Enterprises, LLC; Nexstar Broadcasting Group, Inc.
12/10/2014
20150268 | G | Miraca Holdings Inc.; Baylor College of Medicine; Miraca Holdings Inc.
20150302 | G | 2264891 Ontario Limited; InterWest Insurance Services, Inc.; 2264891 Ontario Limited.
20150303 | G | Century Focused Fund III, L.P.; InterWest Insurance Services, Inc.; Century Focused Fund III, L.P.
20150309 | G | Essentra plc; WP FlexPack Holdings S.a r.l.; Essentra plc.
20150315 | G | Recology Inc. Employee Stock Ownership Plan; The T and R Fry Family Trust; Recology Inc. Employee Stock Ownership Plan.
20150318 | G | John R. Charman; Endurance Specialty Holdings Ltd.; John R. Charman.
12/12/2014
20150247 | G | Johnson & Johnson; Geron Corporation; Johnson & Johnson.
20150329 | G | QUALCOMM Incoporated; CSR plc; QUALCOMM Incoporated.
12/15/2014
20150322 | G | Wendel SA; Robert S. Abrams; Wendel SA.
20150328 | G | Legend Pictures, LLC; Ivy Funds, a Delaware Statutory Trust; Legend Pictures, LLC.
20150330 | G | Tech Mahindra Limited; Lightbridge Communications Corporation; Tech Mahindra Limited.
20150332 | G | Roche Holding Ltd; Ariosa Diagnostics, Inc.; Roche Holding Ltd.
20150335 | G | KKR North America Fund XI, L.P.; Arbor Pharmaceuticals, Inc.; KKR North America Fund XI, L.P.
12/16/2014
20150316 | G | SunEdison, Inc.; First Wind Holdings, LLC; SunEdison, Inc.
20150317 | G | Apollo Investment Fund VIII, L.P.; American Securities Partners V, L.P.; Apollo Investment Fund VIII, L P.
20150327 | G | Vector Capital IV International, L.P.; ChyronHego Corporation; Vector Capital IV International, L.P.
12/18/2014
20150237 | G | Reed Elsevier PLC; Market Science, Inc.; Reed Elsevier PLC.
20150240 | G | ICV Partners III, L.P.; Vista Equity Fund II, L.P.; ICV Partners III, L.P.
20150244 | G | Excellere Capital Fund II, LP; TrialCard Incorporated; Excellere Capital Fund II, LP.
20150258 | G | Reed Elsevier NV; Market Science, Inc.; Reed Elsevier NV.
20150298 | Y | The Blackstone Group L.P.; Paul J. Taubman; The Blackstone Group L.P.
20150320 | G | Petco Holdings, Inc.; Foster and Smith, Inc.; Petco Holdings, Inc.
12/19/2014
20140956 | G | Eli Lilly and Company; Novartis AG; Eli Lilly and Company.
20150336 | G | Artiman Ventures, L.P.; Prysm, Inc.; Artiman Ventures, L.P.
20150341 | G | Centerbridge Capital Partners II, L.P.; Silver Lake Partners II, L.P.; Centerbridge Capital Partners II, L.P.
20150349 | G | BTG plc; PneumRx, Inc.; BTG plc.
20150350 | G | Starwood Energy Infrastructure Fund II Investor, LLC; ASP IV Alternative Investments, L.P.; Starwood Energy Infrastructure Fund II Investor, LLC.
20150351 | G | Carlyle U.S. Equity Opportunity Fund, L.P.; Clearlake Capital Partners III, LP; Carlyle U.S. Equity Opportunity Fund, L.P.
20150354 | G | Corning Incorporated; Dom Thien Tran; Corning Incorporated.
20150355 | G | The Advisory Board Company; Royall Holdings, LLC; The Advisory Board Company.
20150356 | G | Kelso Investment Associates VIII, L.P.; Lighthouse Holdings Parent, Inc.; Kelso Investment Associates VIII, L.P.
20150362 | G | Open Text Corporation; Actuate Corporation; Open Text Corporation.
12/22/2014
20150264 | G | Providence Equity Partners VII-A L.P.; LLR Equity Partners III, L.P.; Providence Equity Partners VII-A L.P.
20150343 | G | Richard Balot; Atlantic Street Capital II, L.P.; Richard Balot.
20150344 | G | Atlantic Street Capital II, L.P.; Richard Balot; Atlantic Street Capital II, L.P.
12/23/2014
20150346 | G | 40 North Investment LP; Mattress Firm Holding Corp.; 40 North Investment LP.
20150364 | G | Renee C-I Holding L.P.; Anadarko Petroleum Corporation; Renee C-I Holding L.P.
12/24/2014
20150238 | G | Kindred Healthcare, Inc.; Centerre Healthcare Corporation; Kindred Healthcare. Inc.
20150365 | G | ISQ Global Infrastructure Fund, L.P.; LS Power Equity Partners II, L.P.; ISQ Global Infrastructure Fund, L.P.
12/29/2014
20150345 | G | Church & Dwight Co., Inc.; Mark G. Holt; Church & Dwight Co., Inc.
12/30/2014
20150118 | G | Siemens Aktiengesellschaft; Dresser-Rand Group Inc.; Siemens Aktiengesellschaft.
12/31/2014
20150360 | G | Aviation Industry Corporation of China; Greenbriar Equity Fund II, L.P.; Aviation Industry Corporation of China.
20150368 | G | Deutsche Telekom AG; Paul G. Allen; Deutsche Telekom AG.
20150369 | G | BlackRock, Inc.; BlackRock Kelso Capital Advisors LLC; BlackRock, Inc.
20150374 | G | RenaissanceRe Holdings Ltd.; Platinum Underwriters Holdings, Ltd.; RenaissanceRe Holdings Ltd.
20150375 | G | Gilles Martin; Bain Capital Venture Fund 2009, L.P.; Gilles Martin.
20150379 | G | AMN Healthcare Services, Inc.; Welsh, Carson Anderson & Stowe IX, L.P.; AMN Healthcare Services, Inc.
20150381 | G | Wind Point Partners VI, L.P.; The Dow Chemical Company; Wind Point Partners VI, L.P.
20150385 | G | Dominion Resources, Inc; SCANA Corporation; Dominion Resources, Inc.

FOR FURTHER INFORMATION CONTACT: Renee Chapman, Contact Representative, or Theresa Kingsberry, Legal Assistant, Federal Trade Commission, Premerger Notification Office, Bureau of Competition, Room CC-5301, Washington, DC 20024, (202) 326-3100.

By direction of the Commission.
Donald Clark,
Secretary.

[FR Doc. 2015-00515 Filed 1-14-15; 8:45 am]

BILLING CODE 6750-01-M